DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 6, 2006.

Interested persons are invited to submit written comments regarding the subject matter of the investigations to the Director, Division of Trade Adjustment Assistance, at the address shown below, not later than July 6, 2006.

The petitions filed in this case are available for inspection at the Office of the Director, Division of Trade Adjustment Assistance, Employment and Training Administration, U.S. Department of Labor, Room C-5311, 200 Constitution Avenue, NW., Washington, DC 20210.

Signed at Washington, DC, this 16th day of June 2006.
Erica R. Cantor,
Director, Division of Trade Adjustment Assistance.

Appendix
[TAA petitions instituted between 6/5/06 and 6/9/06]
TA-W | Subject firm (petitioners) | Location | Date of institution | Date of petition
59507 | Tower Automotive (IUE) | Greenville, MI | 06/05/06 | 05/22/06
59508 | Arrow Electronics Inc. (Wkrs) | Englewood, CO | 06/05/06 | 05/30/06
59509 | Spencer Products (State) | Walnut Ridge, AR | 06/05/06 | 05/31/06
59510 | Avondale Mills (State) | Sylacauga, AL | 06/05/06 | 06/02/06
59511 | Avondale Mills Inc. (State) | Augusta, GA | 06/05/06 | 06/02/06
59512 | Royal Precision Inc. (State) | Torrington, CT | 06/05/06 | 06/02/06
59513 | Robert Bosch Tool Corporation (Comp) | Elizabethtown, KY | 06/05/06 | 06/05/06
59514 | Bob Barker Co. Inc. (Comp) | Fuquay-Varina, NC | 06/05/06 | 06/01/06
59515 | Avondale Mills Inc. (State) | Graniteville, SC | 06/05/06 | 06/02/06
59516 | Delta Consolidated Industries (State) | Jonesboro, AR | 06/06/06 | 06/05/06
59517 | Advanced Electronics, Inc. (State) | Boston, MA | 06/06/06 | 06/05/06
59518 | Orion America Inc. (Comp) | Princeton, IN | 06/06/06 | 06/05/06
59519 | Pixley Richards Inc. (Wkrs) | Wyoming, MI | 06/06/06 | 05/31/06
59520 | Lee Mah Electronics (Wkrs) | San Francisco, CA | 06/06/06 | 06/02/06
59521 | Dora L. International (State) | Los Angeles, CA | 06/06/06 | 06/05/06
59522 | InterBrew USA, LLC (Wkrs) | Latrobe, PA | 06/06/06 | 06/05/06
59523 | Simkins Industries, Inc. (State) | New Haven, CT | 06/06/06 | 06/05/06
59524 | Chardon Rubber Company (The) (Comp) | Alliance, OH | 06/06/06 | 06/02/06
59525 | Securitas Secuirty Services USA (State) | Grand Junction, CO | 06/06/06 | 06/05/06
59526 | Compex Legal Services (Wkrs) | Asheville, NC | 06/07/06 | 06/02/06
59527 | MAG, Incorporated (Wkrs) | El Paso, TX | 06/07/06 | 06/02/06
59528 | Alexvale Furniture Company Inc. (Comp) | Taylorsville, NC | 06/07/06 | 06/06/06
59529 | Transocean Products Inc. (Comp) | Salem, OR | 06/07/06 | 06/06/06
59530 | Johnson Controls Inc. (Comp) | Holland, MI | 06/07/06 | 06/07/06
59531 | Prostolite Wire Corporation (State) | Tifton, GA | 06/07/06 | 06/07/06
59532 | Hardwick Knitted Fabrics (State) | New York, NY | 06/07/06 | 05/24/06
59533 | Yakima Resources, LLC (Union) | Yakima, WA | 06/08/06 | 06/07/06
59534 | Pictorial Engraving Co. Inc. (Comp) | Charlotte, NC | 06/08/06 | 06/07/06
59535 | Water Pik Technologies, Inc. (State) | Fort Collins, CO | 06/08/06 | 06/07/06
59536 | Tokui Inc. (Comp) | Coldwater, MI | 06/08/06 | 06/05/06
59537 | Maxtor Corp./MMC Technology (Comp) | San Jose, CA | 06/09/06 | 06/08/06
59538 | Crefton Industries (State) | City of Industries, CA | 06/09/06 | 06/08/06
59539 | Safeco Insurance (Wkrs) | Seattle, WA | 06/09/06 | 06/07/06
59540 | Unifi Inc. (Comp) | Yadkinville, NC | 06/09/06 | 06/07/06

[FR Doc. E6-9997 Filed 6-23-06; 8:45 am]

BILLING CODE 4510-30-P